ENVIRONMENTAL PROTECTION AGENCY

[EPA-HQ-OPP-2006-0084; FRL-7772-3]

Notice of Receipt of Requests to Voluntarily Cancel Certain Pesticide Registrations; Technical Correction

AGENCY: Environmental Protection Agency (EPA).

ACTION: Notice.

SUMMARY: In accordance with section 6(f)(1) of the Federal Insecticide, Fungicide, and Rodenticide Act (FIFRA), as amended, EPA issued a notice of receipt of request by registrants to voluntarily cancel certain pesticide registrations in the Federal Register of February 22, 2006. The notice announced that 90 pesticide registrations would be canceled unless a cancellation request was withdrawn by August 21, 2006. The 90 registrations were listed in Table 1. This notice corrects information in Table 1 for one of the registrations. EPA Registration Number 000100-01074 (Cyclone Concentrate Herbicide) was erroneously included in the February 22, 2006 Notice, therefore with this technical correction EPA is removing EPA Registration Number 000100-01074 (Cyclone Concentrate Herbicide) from Table 1 of the February 22, 2006 Federal Register Notice. A request to voluntarily cancel EPA Registration Number 000100-01074 (Cyclone Concentrate Herbicide) was previously published in the Federal Register of October 28, 2005. The terms of the October 28, 2005 Notice take precedent over the erroneous inclusion of this registration in the February 22, 2006 Federal Register Notice.

DATES: Unless the request to cancel EPA Registration Number 000100-01074 (Cyclone Concentrate Herbicide) is withdrawn by April 26, 2006 an order will be issued canceling this registration. The Agency will consider withdrawal requests postmarked no later than April 26, 2006.

FOR FURTHER INFORMATION CONTACT: John Jamula, Information Technology and Resources Management Division (7502C), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under Docket identification number (ID) [EPA-HQ-OPP-2006-0084; FRL-7772-3]. Publicly available docket materials are available either electronically at http://www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

2. Electronic access. You may access this Federal Register document electronically through the EPA Internet under the “Federal Register” listings at http://www.epa.gov/fedrgstr/.

II. What Action is the Agency Taking?

In accordance with section 6(f)(1) of FIFRA, as amended, EPA issued a notice of receipt of request by registrants to voluntarily cancel certain pesticide registrations (71 FR 9118, February 22, 2006) (FRL-7762-4). The notice announced that 90 pesticide registrations would be canceled unless a cancellation request was withdrawn by August 21, 2006. The 90 registrations were listed in Table 1. EPA Registration Number 000100-01074 (Cyclone Concentrate Herbicide) was erroneously included in the February 22, 2006 Notice. In this technical correction, EPA is removing the entry for EPA Registration Number 000100-01074 (Cyclone Concentrate Herbicide) from table 1 of the February 22, 2006 Notice (71 FR 9119). A request to voluntarily cancel EPA Registration Number 000100-01074 (Cyclone Concentrate Herbicide) was previously published in the Federal Register of October 28, 2005 (70 FR 62112) (FRL-7743-6) and the terms of the October 28, 2005 Notice are applicable to EPA Registration Number 000100-01074 (Cyclone Concentrate Herbicide) and take precedent over the erroneous inclusion of this registration in the February 22, 2006 Federal Register Notice and the terms of that Notice.

In FR Doc. E6-2492, in the issued of February 22, 2006, page 9119, in Table 1, the entry for Registration No. 000100-01074, product name: Cyclone Concentrate Herbicide, and chemical name: Paraquat dichloride, is removed in its entirety.

List of Subjects

Environmental protection, Pesticides and pests.

Dated: March 28, 2006.
Robert Forrest,
Acting Director, Information Technology and Resources Management Division, Office of Pesticide Programs.

[FR Doc. E6-5112 Filed 4-10-06; 8:45 am]

BILLING CODE 6560-50-S